DEPARTMENT OF ENERGY

Energy Information Administration

Agency Information Collection Activities

AGENCY: Energy Information Administration, Department of Energy.

ACTION: Agency Information Collection Activities: Request for Emergency Review by the Office of Management and Budget.

SUMMARY: The Energy Information Administration (EIA) has submitted the energy information collection listed at the end of this notice to the Office of Management and Budget (OMB) for emergency processing under provisions of the Paperwork Reduction Act of 1995 (Pub. L. 104-13) (44 U.S.C. 3501 et seq.) by March 22, 2000. The reason for this emergency clearance request is to obtain data needed for responding to requests from the Secretary of Energy and Congress on the impact of interruptible natural gas contracts, which affected home heating oil supplies in the Northeastern United States during January and February 2000.

The Supplementary Information contains the following: (1) The collection number and title; (2) a summary of the collection of information (includes the sponsor (i.e., the DOE component)), current OMB document number (if applicable), type of request (new, revision, extension, or reinstatement), response obligation (mandatory, voluntary, or required to obtain or retain benefits); (3) a description of the need and proposed use of the information; (4) a description of the likely respondents; and (5) an estimate of the total annual reporting burden (i.e., the estimated number of likely respondents times the proposed frequency of response per year times the average hours per response).

DATES: Comments must be filed by March 22, 2000.

ADDRESS: Address comments to the Mr. Erik Godwin, Department of Energy Desk Officer, Office of Information and Regulatory Affairs, Office of Management and Budget, 726 Jackson Place NW, Washington, DC 20503. (Mr. Godwin may be reached by telephone at (202) 395-3084. Comments should also be addressed to the Statistics and Methods Group at the address immediately below.)

FOR FURTHER INFORMATION CONTACT: Requests for additional information should be directed to Herbert Miller, Statistics and Methods Group, (EI-70), Forrestal Building, U.S. Department of Energy, Washington, DC 20585-0670. Mr. Miller may be contacted by telephone at (202) 426-1103, FAX at (202) 426-1081, or e-mail at Herbert.Miller@eia.doe.gov.

SUPPLEMENTARY INFORMATION:

The energy information collection submitted to OMB for review was:

1. EIA-903, “Natural Gas Service Interruptions in the Northeast during January and February 2000”.

2. The Energy Information Administration plans to collect information in four parts from 34 natural gas companies who deliver natural gas (i.e., have natural gas service arrangements) to consumers in the Northeast.

Part I requests information on interruptions of any firm service arrangements during January and February 2000. Part II requests information on selected characteristics of interruptible service arrangements. Part III requests baseline monthly and weekly information for those categories of service which were interrupted during January and February 2000. Part IV requests information on customers who were interrupted. This is a new survey and a new OMB number is being requested. The response obligation will be mandatory.

3. The data are needed to respond to a request from the Secretary of Energy and Congress to jointly conduct a study on the impact of interruptible contracts on home heating oil supplies in the Northeast, during January and February 2000.

4. Respondents will be 34 natural gas companies who deliver natural gas to consumers.

5. The reporting burden is expected to be 680 hours. (34 respondents ×1 response ×20 hours)

Statutory Authority: Section 3506(c)(2)(A) of the Paperwork Reduction Act of 1995 (Pub. L. No. 104-13).

Issued in Washington, D.C., March 16, 2000.
Jay H. Casselberry,
Agency Clearance Office, Statistics and Methods Group, Energy Information Administration.

[FR Doc. 00-7070 Filed 3-20-00; 8:45 am]

BILLING CODE 6450-01-P